OFFICE OF PERSONNEL MANAGEMENT

Patient Protection and Affordable Care Act; Establishment of the Multi-State Plan Program for the Affordable Insurance Exchanges; Announcement

AGENCY: Office of Personnel Management (OPM).

ACTION: Notice of effective date.

SUMMARY: This document announces the effective date of a regulatory provision published in the Federal Register by OPM on March 11, 2013 (78 FR 15559), entitled “Patient Protection and Affordable Care Act; Establishment of the Multi-State Plan Program for the Affordable Insurance Exchanges.”

DATES: The effective date of OPM's regulatory provision relating to external review (45 CFR 800.503) is December 13, 2013.

FOR FURTHER INFORMATION CONTACT: Padma Shah by telephone at (202) 606-2128, by FAX at (202) 606-0033, or by email at mspp@opm.gov.

SUPPLEMENTARY INFORMATION: In the final rule published on March 11, 2013, OPM provided notice that the regulatory provision relating to external review (45 CFR 800.503) will take effect on the effective date of a technical amendment to regulations implementing section 2719 of the Public Health Service (PHS) Act, which apply to all non-grandfathered group health plans and health insurance issuers, including plans in the Multi-State Plan Program. On November 13, 2013, the Departments of Treasury, Labor, and Health and Human Services (“the Departments”) jointly published “Final Rules under the Paul Wellstone and Pete Domenici Mental Health Parity and Addiction Equity Act of 2008; Technical Amendment to External Review for Multi-State Plan Program” (78 FR 68240). This final rule retains provisions the Departments proposed on March 21, 2013 (78 FR 17313), implementing a technical amendment to regulations for section 2719 of the PHS Act. This final rule specifies that Multi-State Plan coverage will be subject to standards established for the Federal external review process under section 2719(b)(2) of the PHS Act and paragraph (d) of the internal claims and appeals and external review regulations. Additionally, the Departments' final rule corrects a typographical error in the March 21, 2013 proposed rule. The effective date of the Departments' technical amendment is December 13, 2013, and accordingly, this document advises the public that the effective date of OPM's regulatory provision relating to external review (45 CFR 800.503) is also December 13, 2013.

U.S. Office of Personnel Management.
Katherine Archuleta,
Director.

[FR Doc. 2013-29702 Filed 12-11-13; 8:45 am]

BILLING CODE 6325-64-P